DEPARTMENT OF COMMERCE

Bureau of Industry and Security

15 CFR Parts 732, 738, 770 and 774

[Docket No. 100709293-1073-01]

RIN 0694-AE96

Editorial Corrections to the Export Administration Regulations

AGENCY: Bureau of Industry and Security, Commerce.

ACTION: Final rule.

SUMMARY: The Bureau of Industry and Security (BIS) publishes this final rule to implement editorial corrections to the Export Administration Regulations (EAR). In particular, this rule corrects the country entry for Syria on the Commerce Country Chart to ensure that the license requirements are accurately represented. In addition, this rule corrects other errors in the Commerce Control List such as inaccurate references, spelling and technical errors, and removes superfluous wording to ensure accuracy in the EAR.

DATES: Effective Date: This rule is effective: April 29, 2011.

FOR FURTHER INFORMATION CONTACT: Sharron Cook, Office of Exporter Services, Bureau of Industry and Security, by telephone at (202) 482-4890 or by e-mail at sharron.cook@bis.doc.gov.

SUPPLEMENTARY INFORMATION: This final rule implements editorial corrections to four parts of the Export Administration Regulations (EAR), including several Export Control Classification Number (ECCN) entries. In particular, the Bureau of Industry and Security (BIS) publishes this rule to correct the country entry for Syria on the Commerce Country Chart to more clearly identify for exporters the licensing requirements that apply to this destination. In addition, this final rule corrects inaccurate references, spelling and technical errors, and removes superfluous wording to ensure accuracy in the Commerce Control List (CCL). The revisions made by this rule are described more fully below in Code of Federal Regulations part number order.

Part 732

On October 3, 2008 (73 FR 57495), BIS published an interim final rule entitled “Encryption Simplification,” which inadvertently removed subparagraphs (1), (2), and (3) from paragraph (b) of section 732.2. These subsections discussed the scope of the EAR in relation to publicly available technology and software. This rule restores those subparagraphs to section 732.2(b).

Part 738

On May 14, 2004 (69 FR 26766), BIS added General Order No. 2 to Supplement No. 1, Part 736 pursuant to Section 5(a)(1) of the Syria Accountability and Lebanese Sovereignty Restoration Act of 2003, which requires a prohibition on the export to Syria of all items on the CCL. However, the May 14, 2004 rule inaccurately represented the license requirements for Syria on the Commerce Country Chart (Supplement No. 1 to part 738). This rule revises those controls to ensure accurate licensing information is provided to improve compliance to the EAR. This rule removes the “X's” under all the reasons for control, and adds in their place “See General Order No. 2 in Supplement No. 1 to Part 736 of the EAR to determine whether a license is required to export or reexport to this destination.” Adding this notation to the Commerce Country Chart does not substantively change existing controls related to Syria; it only serves to more accurately cite the applicable regulatory controls as set forth in the EAR.

Part 770

This rule revises section 770.2 to remove inaccurate ECCN references in paragraph (a)(1), which provides: “Interpretation 1: Anti-friction bearing or bearing systems and specially designed parts.” The references to the five ECCNs in section 770.2 were inadvertently retained in the regulations when BIS removed the ECCNs from the Commerce Control List (CCL) in an interim rule published on January 15, 1998 rule (63 FR 2452). This rule amends this error by removing the references to ECCNs: 2A002, 2A003, 2A004, 2A005, and 2A006. This amendment is being made to ensure consistency with the EAR.

Part 774

This rule revises a number of entries with errors on the CCL to provide a complete and more accurate description of controls in certain ECCNs. A description of the specific amendments to the CCL is provided below. As described below, the amendments apply to ECCNs 0B002, 1B233, 1C006, 1E201, 1E355, 2B005, 6A995, 6D993, 7D001, 9D001, and 9D002.

Category 0—Nuclear Materials, Facilities, and Equipment [And Miscellaneous Items]

ECCN 0B002 is amended to redesignate paragraphs that were not correctly designated in an interim rule published on January 15, 1998 (63 FR 2452, 2462-3). To revise the error, this rule redesignates paragraphs f.1, f.2, g, g.1, g.2, g.3, and g.4, as paragraphs e.1, e.2, f, f.1, f.2, f.3, and f.4, respectively.

Category 1—Systems, Equipment, and Components

ECCN 1B233 is amended to move a paragraph that was misplaced below the License Requirements section in a final rule published on August 29, 2002 (67 FR 55594, 55602). This rule moves the paragraph, “Facilities and plants described in 1B233.a are subject to the export licensing authority of the Nuclear Regulatory Commission (see 10 CFR part 110)” from directly below the License Requirement section and relocates it to paragraph 2 in Related Controls in the List of Items Controlled section. This correction will ensure accuracy and consistency within the EAR.

ECCN 1C006 is amended to remove a paragraph inadvertently left after the technical note was removed in an interim rule published on January 15, 1998 (63 FR 2452, 2471). This rule removes paragraph “e” under the Items paragraph of the Lists of Items Controlled.

ECCN 1E201 is amended to correct an inaccurate reference in the heading published in an interim rule on January 15, 1998 (63 FR 2452, 2483). This rule corrects an inaccurate reference in the heading by revising the reference “1C002.a.2.c or .d” to read “1C002.b.3 and b.4.”

ECCN 1E355 is amended to remove superfluous wording published in an interim rule on May 18, 1999 (64 FR 27138, 27150). Specifically, this rule removes a redundant reference to the acronym “CWC,” which stands for the Chemical Weapons Convention, at the end of paragraph “b.” under the Items paragraph of the Lists of Items Controlled.

Category 2—Materials Processing

ECCN 2B005 is amended to correct a reference error made in a final rule published on April 18, 2008 (73 FR 21035, 21039). This rule corrects the misprint in “(3)” of the Related Controls paragraph of “2B104” to read “2B105” to make the reference accurate and consistent with the EAR.

Category 6—Sensors and Lasers

ECCN 6A995 is amended to correct an inadvertent error made in a final rule published on November 5, 2007 (72 FR 62524, 62547). This rule corrects the spelling of the word “or” after the word “than” and before the word “equal” in the Note directly following paragraph 6A995.e.2.b. This change will ensure consistency and accuracy in the EAR.

ECCN 6D993 is amended to correct a technical error made in an interim rule published on January 15, 1998 (63 FR 2452, 2535). This rule corrects the Unit paragraph in the Lists of Items Controlled to correctly coincide with the nature of the controlled software by removing the text “Equipment in number; parts and accessories in” so that the only remaining text is “$ value.”

Category 7—Navigation and Avionics

ECCN 7D001 is amended to correct a grammatical error made in a final rule published on November 5, 2007 (72 FR 62524, 62549). This rule adds a comma between the words “systems” and “inertial” in the RS paragraph of the License Requirements section to ensure grammatical accuracy in the EAR.

Category 9—Aerospace and Propulsion

ECCN 9D001 is amended to correct a technical error made in an interim rule published on March 25, 1996 (61 FR 12713, 13032). This rule revises the description of the software to which the NS control applies in the License Requirements section by adding the phrase “and technology controlled by” to ensure accuracy in the application of these controls. This additional language ensures that 9E003 technology is not improperly referred to as equipment.

ECCN 9D002 is amended to correct a technical error made in a final rule published on March 5, 2003 (68 FR 10586, 10608). This rule revises the description of the software to which the NS control applies in the License Requirements section to ensure accuracy in the application of these controls. This additional wording ensures that 9E003 technology is not improperly referred to as equipment.

Rulemaking Requirements

1. This final rule has been determined to be not significant for purposes of E.O. 12866.

2. Notwithstanding any other provision of law, no person is required to respond to, nor shall any person be subject to a penalty for failure to comply with a collection of information, subject to the requirements of Paperwork Reduction Act, unless that collection of information displays a currently valid Office of Management and Budget Control Number. This rule does not affect any paperwork collection. This rule does not contain policies with Federalism implications as that term is defined under E.O. 13132.

3. The Department finds that there is good cause under 5 U.S.C. 553(b)(B) to waive the provisions of the Administrative Procedure Act requiring prior notice and the opportunity for public comment because it is unnecessary. The revisions made by this rule are administrative in nature and do not affect the rights and obligations of the public. Because these revisions are not substantive changes to the EAR, it is unnecessary to provide notice and opportunity for public comment. In addition, the 30-day delay in effectiveness required by 5 U.S.C. 553(d) is not applicable because this rule is not a substantive rule. Notice of proposed rulemaking and opportunity for public comment are not required for this rule under the Administrative Procedure Act or by any other law, and the analytical requirements of the Regulatory Flexibility Act (5 U.S.C. 601 et seq.) are not applicable.

List of Subjects

15 CFR Part 732

Administrative practice and procedure, Exports, Reporting and recordkeeping requirements.

15 CFR Part 738

Exports.

15 CFR Part 770

Exports.

15 CFR Part 774

Exports, Reporting and recordkeeping requirements.

Accordingly, Parts 732, 738, 770 and 774 of the Export Administration Regulations (15 CFR Parts 730 through 774) are amended as follows:

PART 732—[AMENDED]

1. The authority citation for part 732 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 12, 2010, 75 FR 50681 (August 16, 2010).

2. Section 732.2 is amended by adding paragraphs (b)(1), (2) and (3) to read as follows:

§ 732.2 Steps regarding scope of the EAR.

* * * * *

(b) * * *

(1) If your technology or software is publicly available, and therefore outside the scope of the EAR, you may proceed with the export or reexport if you are not a U.S. person subject to General Prohibition Seven. If you are a U.S. person, go to Step 15 at § 732.3(j) of this part. If you are a U.S. person and General Prohibition Seven concerning proliferation activity of U.S. persons does not apply, then you may proceed with the export or reexport of your publicly available technology or software. Note that all U.S. persons are subject to the provisions of General Prohibition Seven.

(2) If your technology or software is not publicly available and you are exporting from the United States, skip to the Step 7 in § 732.3(b) of this part concerning the general prohibitions.

(3) If you are exporting items from a foreign country, you should then proceed to Step 3 in paragraph (c) of this section and the other steps concerning the scope of the EAR.

* * * * *

PART 738—[AMENDED]

3. The authority citation for part 738 continues to read as follows:

Authority: 50 U.S.C. app. 2401 et seq.; 50 U.S.C. 1701 et seq.; 10 U.S.C. 7420; 10 U.S.C. 7430(e); 22 U.S.C. 287c; 22 U.S.C. 3201 et seq.; 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 12, 2010, 75 FR 50681 (August 16, 2010).

4. Supplement No. 1 to Part 738 is amended by revising the entry for Syria to read as follows:

Supplement No. 1 to Part 738—Commerce Country Chart
[Reason for control]
Countries | Chemical & biological weapons: CB 1 | Chemical & biological weapons: CB 2 | Chemical & biological weapons: CB 3 | Nuclear non-proliferation: NP 1 | Nuclear non-proliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
* * * * * * *
Syria | See General Order No. 2 in Supplement No. 1 to Part 736 of the EAR to determine whether a license is required in order to export or reexport to this destination.
* * * * * * *

PART 770—[AMENDED]

5. The authority citation for part 770 continues to read as follows:

Authority: 50 U.S.C. app. 2401 et seq.; 50 U.S.C. 1701 et seq.; E.O. 13222, 66 FR 44025, 3 CFR, 2001 Comp., p. 783; Notice of August 12, 2010, 75 FR 50681 (August 16, 2010).

6. Section 770.2 is amended by revising paragraph (a)(1) to read as follows:

§ 770.2 Item interpretations.

(a) * * *

(1) Anti-friction bearings or bearing systems shipped as spares or replacements are classified under Export Control Classification Number (ECCN) 2A001 (ball, roller, or needle-roller bearings and parts). This applies to separate shipments of anti-friction bearings or bearing systems and anti-friction bearings or bearing systems shipped with machinery or equipment for which they are intended to be used as spares or replacement parts.

* * * * *

PART 774—[AMENDED]

7. The authority citation for part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 12, 2010, 75 FR 50681 (August 16, 2010).

Supplement No. 1 to Part 774—[Amended]

8. In Category 0—Nuclear Materials, Facilities, and Equipment [And Miscellaneous Items], ECCN 0B002 is amended by:

a. Redesignating paragraphs f.1 and f.2 as paragraphs e.1 and e.2, respectively; and

b. Redesignating paragraphs g, g.1, g.2, g.3, and g.4 as paragraphs f, f.1, f.2, f.3, and f.4, respectively.

9. In Category 1—Systems, Equipment, and Components ECCN 1B233 is amended by:

a. Revising the License Requirements section; and

b. Revising the Related Controls paragraph of the List of Items Controlled section, to read as follows:

Supplement No. 1 to Part 774—Commerce Control List

* * * * *

1B233 Lithium isotope separation facilities or plants, and equipment therefor, as follows (see List of Items Controlled).

License Requirements

Reason for Control: NP, AT

Control(s) | Country chart
NP applies to 1B233.b | NP Column 1
AT applies to 1B233.b | AT Column 1

* * * * *

List of Items Controlled

* * * * *

Related Controls: (1) See ECCN 1E001 (“development” and “production”) and ECCN 1E201 (“use”) for technology for items described in this entry. (2) Facilities and plants described in 1B233.a are subject to the export licensing authority of the Nuclear Regulatory Commission (see 10 CFR part 110).

* * * * *

10. In Category 1—Systems, Equipment, and Components, ECCN 1C006 is amended by removing the last paragraph designated as “e” in the Items paragraph of the Lists of Items Controlled.

11. In Category 1—Systems, Equipment, and Components, ECCN 1E201 is amended by revising the heading, to read as follows:

1E201 “Technology” according to the General Technology Note for the “use” of items controlled by 1A002, 1A007, 1A202, 1A225 to 1A227, 1B201, 1B225 to 1B232, 1B233.b, 1C002.b.3 and b.4, 1C010.a, 1C010.b, 1C010.e.1, 1C202, 1C210, 1C216, 1C225 to 1C240 or 1D201.

* * * * *

12. In Category 1—Systems, Equipment, and Components, ECCN 1E355 is amended by removing the acronym “CWC” from the end of paragraph b in the Items paragraph of the List of Items Controlled section.

13. In Category 2—Materials Processing, ECCN 2B005, List of Items Controlled section is amended by removing “2B104” and adding in its place “2B105” in paragraph (3) of the Related Controls paragraph.

14. In Category 6—Sensors and Lasers, ECCN 6A995 is amended by revising the Note: 6A995.e.2.b to read as follows:

6A995 “Lasers” (see List of Items Controlled).

* * * * *

Lists of Items Controlled

* * * * *

Items: * * *

* * * * *

e. * * *

e.2 * * *

e.2.b * * *

Note: 6A995.e.2.b does not control multiple transverse mode, industrial “lasers” with output power less than or equal to 2kW with a total mass greater than 1,200kg. For the purpose of this note, total mass includes all components required to operate the “laser,” e.g., “laser,” power supply, heat exchanger, but excludes external optics for beam conditioning and/or delivery.

* * * * *

15. In Category 6—Sensors and Lasers, ECCN 6D993, the License requirements section is amended by removing the text “Equipment in number; parts and accessories in” from the Unit paragraph.

16. In Category 7—Navigation and Avionics, ECCN 7D001 is amended by revising the RS control paragraph in the License Requirement section, to read as follows:

7D001 “Software” specially designed or modified for the “development” or “production” of equipment controlled by 7A (except 7A994) or 7B (except 7B994).

License Requirements

Reason for Control: * * *

Control(s) | Country chart
* * * * *
RS applies to “software” for inertial navigation systems, inertial equipment, and specially designed components therefor, for “civil aircraft.” | RS Column 1
* * * * *

17. In Category 9—Aerospace and Propulsion, ECCN 9D001 is amended by revising the NS control paragraph in the License Requirement section, to read as follows:

9D001 “Software” specially designed or modified for the “development” of equipment or “technology,” controlled by 9A (except 9A018, 9A990 or 9A991), 9B (except 9B990 or 9B991) or 9E003.

License Requirements

Reason for Control: * * *

Control(s) | Country chart
NS applies to “software” for equipment controlled by 9A001 to 9A003, 9A012, 9B001 to 9B010, and technology controlled by 9E003 | NS Column 1
* * * * *

18. In Category 9—Aerospace and Propulsion, ECCN 9D002 is amended by revising the NS control paragraph in the License Requirement section, to read as follows:

9D002 “Software” specially designed or modified for the “production” of equipment controlled by 9A (except 9A018, 9A990, or 9A991) or 9B (except 9B990 or 9B991).

License Requirements

Reason for Control: * * *

Control(s) | Country chart
NS applies to “software” for equipment controlled by 9A001 to 9A003, 9A012, 9B001 to 9B010, and technology controlled by 9E003 | NS Column 1
* * * * *

Dated: April 11, 2011.
Kevin J. Wolf,
Assistant Secretary.

[FR Doc. 2011-9924 Filed 4-28-11; 8:45 am]

BILLING CODE 3510-33-P